CONSUMER PRODUCT SAFETY COMMISSION

Change in Times for Meeting of Chronic Hazard Advisory Panel on Phthalates and Phthalate Substitutes and Correction of E-mail Address

AGENCY: Consumer Product Safety Commission.

ACTION: Change in notice of meeting and correction.

SUMMARY: The Consumer Product Safety Commission (“CPSC” or “Commission”) is announcing time changes to the second meeting of the Chronic Hazard Advisory Panel (CHAP) on phthalates and phthalate substitutes. The Commission appointed this CHAP to study the effects on children's health of all phthalates and phthalate alternatives as used in children's toys and child care articles, pursuant to section 108 of the Consumer Product Safety Improvement Act of 2008 (CPSIA) (Pub. L. 110-314). The Commission also is correcting the e-mail address for requests and procedures for oral presentations of comments.

DATES: The meeting will begin at 8:30 a.m. on July 26, 2010. The opportunity for the public to present oral comments will remain on July 26, 2010, from 10 a.m. to 5 p.m. The remainder of the meeting will be from 8:30 a.m. to 5 p.m. on July 27, 2010 and from 8:30 a.m. to 2 p.m. on July 28, 2010.

Online Registration and Webcast: Members of the public who wish to attend the meeting are requested to preregister online at http://www.cpsc.gov/cgibin/chap.aspx. This meeting will also be available live via Webcast on July 26 and July 27, and by prerecorded Webcast on July 28, 2010, at http://www.cpsc.gov/ Webcast. Registration is not necessary to view the Webcast.

FOR FURTHER INFORMATION CONTACT: Concerning requests and procedures for oral presentations of comments: Rockelle Hammond, Consumer Product Safety Commission, Bethesda, MD 20814; telephone: (301) 504-6833; e-mail cpsc-os@cpsc.gov. For all other matters: Michael Babich, Directorate for Health Sciences, Consumer Product Safety Commission, Bethesda, MD 20814; telephone (301) 504-07253; e-mail mbabich@cpsc.gov.

SUPPLEMENTARY INFORMATION: In the Federal Register of June 3, 2010 (75 FR 31426), the Consumer Product Safety Commission published a notice announcing the second meeting of the Chronic Hazard Advisory Panel (CHAP) on phthalates and phthalate substitutes. The Commission appointed this CHAP to study the effects on children's health of all phthalates and phthalate alternatives as used in children's toys and child care articles, pursuant to section 108 of the Consumer Product Safety Improvement Act of 2008 (CPSIA) (Pub. L. 110-314).

The times for the meeting have been changed. The meeting now will begin at 8:30 a.m. on July 26, 2010, although the opportunity for the public to present oral comments will remain on July 26, 2010, from 10 a.m. to 5 p.m. On July 27, the meeting will begin at 8:30 a.m. and end at 5 p.m., and on July 28, the meeting will begin at 8 a.m. and end at 2 p.m.

Additionally, in the Federal Register of June 3, 2010, the e-mail address for requests and procedures for oral presentations of comments that was provided in the “FOR FURTHER INFORMATION CONTACT” portion of the notice was incorrect. The correct e-mail address is cpsc-os.cpsc.gov. Requests to present oral comments must be filed with the Office of the Secretary no later than July 1, 2010.

Dated: June 22, 2010.
Todd Stevenson,
Secretary, Consumer Product Safety Commission.

[FR Doc. 2010-15508 Filed 6-25-10; 8:45 am]

BILLING CODE 6355-01-P